DEPARTMENT OF ENERGY

Federal Energy Regulatory Commission

Combined Notice of Filings #1

August 10, 2009.

Take notice that the Commission received the following electric corporate filings:

Docket Numbers: EC09-86-001.

Applicants: PacifiCorp.

Description: PacifiCorp Supplement to Application Under FPA Section 203.

Filed Date: 08/04/2009.

Accession Number: 20090804-5060.

Comment Date: 5 p.m. Eastern Time on Tuesday, August 25, 2009.

Docket Numbers: EC09-97-001.

Applicants: MidAmerican Energy Company.

Description: Supplement to Application under FPA Section 203 of MidAmerican Energy Company.

Filed Date: 08/07/2009.

Accession Number: 20090807-5102.

Comment Date: 5 p.m. Eastern Time on Monday, August 17, 2009.

Docket Numbers: EC09-99-001.

Applicants: MidAmerican Energy Company.

Description: Supplement to Application under FPA Section 203 of MidAmerican Energy Company.

Filed Date: 08/07/2009.

Accession Number: 20090807-5103.

Comment Date: 5 p.m. Eastern Time on Monday, August 17, 2009.

Docket Numbers: EC09-102-000.

Applicants: AES Armenia Mountain Wind, LLC.

Description: Application for Approval of Disposition of Jurisdictional Facilities, Request for Confidential Treatment, and Request for Expedited Action of AES Armenia Mountain Wind, LLC.

Filed Date: 08/10/2009.

Accession Number: 20090810-5008.

Comment Date: 5 p.m. Eastern Time on Monday, August 31, 2009.

Take notice that the Commission received the following electric rate filings:

Docket Numbers: ER01-3103-019.

Applicants: Astoria Energy LLC.

Description: Astoria Energy LLC Submits Report—No Material Change in Status—Order 652.

Filed Date: 08/07/2009.

Accession Number: 20090807-5067.

Comment Date: 5 p.m. Eastern Time on Friday, August 28, 2009.

Docket Numbers: ER09-1316-001.

Applicants: Midwest Independent Transmission System Operator, Inc.

Description: Midwest Independent Transmission System Operator, Inc submits Original Service Agreement 2064 et al. to FERC Electric Tariff, Fourth Revised Volume 1.

Filed Date: 08/07/2009.

Accession Number: 20090810-0006.

Comment Date: 5 p.m. Eastern Time on Friday, August 28, 2009.

Docket Numbers: ER09-1559-000.

Applicants: Xcel Energy Operating Companies.

Description: Xcel Energy Services Inc submits proposed revisions to the Xcel Energy Operating Companies Joint Open Access Transmission Tariff.

Filed Date: 08/07/2009.

Accession Number: 20090807-0113.

Comment Date: 5 p.m. Eastern Time on Friday, August 28, 2009.

Docket Numbers: ER09-1561-000; ER09-1561-001.

Applicants: Castleton Power, LLC.

Description: Castleton Power, LLC informs the Commission that it has succeeded to the market-based rate tariff of EPCOR Power (Castleton) LLC of changes in its name of changes in its upstream ownership ect.

Filed Date: 08/07/2009.

Accession Number: 20090810-0001.

Comment Date: 5 p.m. Eastern Time on Friday, August 28, 2009.

Docket Numbers: ER09-1562-000.

Applicants: Southwest Power Pool, Inc.

Description: Southwest Power Pool, Inc submits First Revised Service Agreement 1617 et al. to FERC Electric Tariff, Fifth Revised Volume 1, to be effective 10/6/09.

Filed Date: 08/07/2009.

Accession Number: 20090810-0003.

Comment Date: 5 p.m. Eastern Time on Friday, August 28, 2009.

Docket Numbers: ER09-1563-000.

Applicants: American Transmission Systems, Incorporation.

Description: FirstEnergy submits executed Construction Agreement between FirstEnergy and Renewable Energy Services of Ohio, LLC et al.

Filed Date: 08/07/2009.

Accession Number: 20090810-0004.

Comment Date: 5 p.m. Eastern Time on Friday, August 28, 2009.

Docket Numbers: ER09-1564-000.

Applicants: Entergy Services, Inc.

Description: Entergy Services, Inc submits First Revised Sheet 114 et al. to FERC Electric Tariff, Third Revised Volume 3 to be effective 10/6/09.

Filed Date: 08/07/2009.

Accession Number: 20090810-0005.

Comment Date: 5 p.m. Eastern Time on Friday, August 28, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-19591 Filed 8-14-09; 8:45 am]

BILLING CODE 6717-01-P